DEPARTMENT OF COMMERCE

Foreign-Trade Zones Board

[Docket 38-2002]

Foreign-Trade Zone 40—Cleveland, Ohio, Area Application for Expansion

An application has been submitted to the Foreign-Trade Zones (FTZ) Board (the Board), by the Cleveland-Cuyahoga County Port Authority, grantee of Foreign-Trade Zone 40, requesting authority to expand its zone (Site 3) in the Cleveland, Ohio, area, within the Cleveland Customs port of entry. The application was submitted pursuant to the provisions of the Foreign-Trade Zones Act, as amended (19 U.S.C. 81a-81u), and the regulations of the Board (15 CFR Part 400). It was formally filed on September 26, 2002.

FTZ 40 was approved on September 29, 1978 (Board Order 135, 43 FR 46886, 10/11/78) and expanded in June 1982 (Board Order 194, 47 FR 27579, 6/25/82); April 1992 (Board Order 574, 57 FR 13694, 4/17/92); February 1997 (Board Order 870, 62 FR 7750, 2/20/97; June 1999 (Board Order 1040, 64 FR 33242, 6/22/99) and April 2002 (Board Order 1224, 67 FR 20087, 4/15/02). The general-purpose zone project currently consists of the following sites in the Cleveland, Ohio, area: Site 1 (94 acres)—Port of Cleveland complex on Lake Erie at the mouth of the Cuyahoga River, Cleveland; Site 2 (175 acres)—the IX Center (formerly the “Cleveland Tank Plant”), in Brook Park, adjacent to the Cleveland Hopkins International Airport; Site 3 (1,900 acres)—Cleveland Hopkins International Airport complex; Site 4 (450 acres)—Burke Lakefront Airport, 1501 North Marginal Road, Cleveland; Site 5 (298 acres)—Emerald Valley Business Park, Cochran Road and Beaver Meadow Parkway, Glenwillow; Site 6 (30 acres)—Collinwood site, South Waterloo (South Marginal) Road and East 152nd Street, Cleveland; Site 7 (47 acres)—Water Tower Industrial Park, Coit Road and East 140th Street, Cleveland; Site 8 (83 acres)—Strongsville Industrial Park, Royalton Road (State Route 82), Strongsville; Site 9 (13 acres)—East 40th Street between Kelley & Perkins Avenues (3830 Kelley Avenue), Cleveland; and, Site 10 (15 acres)—Frane Industrial Park, Forman Road, Ashtabula.

The applicant is now requesting authority to expand existing Site 3 by adding the 42-acre Snow Road Industrial Park, 18901 Snow Road, Brook Park. The site is contiguous to the Cleveland Hopkins International Airport complex (Site 3). The facility was the former tire warehousing and distribution facility of Goodyear Corporation, and it is now owned by the Crow Holdings Industrial Trust which is redeveloping the site as an industrial complex. The site will provide public warehousing and distribution services to area businesses. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099—14th Street, NW., Washington, DC 20005.

2. Submissions via the U.S. Postal Service: Foreign-Trade Zones Board, U.S. Department of Commerce, FCB-Suite 4100W, 1401 Constitution Avenue, NW, Washington, DC 20230.

The closing period for their receipt is December 9, 2002. Rebuttal comments in response to material submitted during the foregoing period may be submitted during the subsequent 15-day period (to December 23, 2002).

A copy of the application and accompanying exhibits will be available during this time for public inspection at address Number 1 listed above, and at the U.S. Department of Commerce Export Assistance Center, 600 Superior Avenue East, Suite 700, Cleveland, OH 44114.

Dated: September 26, 2002.
Dennis Puccinelli,
Executive Secretary.

[FR Doc. 02-25630 Filed 10-7-02; 8:45 am]

BILLING CODE 3510-DS-P